FEDERAL RESERVE SYSTEM

Change in Bank Control Notices; Acquisition of Shares of Bank or Bank Holding Companies

The notificants listed below have applied under the Change in Bank Control Act (12 U.S.C. 19817(j)) and § 225.41 of the Board's Regulation Y (12 CFR 225.41) to acquire a bank or bank holding company. The factors that are considered in acting on the notices are set forth in paragraph 7 of the Act (12 U.S.C. 1817(j)(17)).

The notices are available for immediate inspection at the Federal Reserve Bank indicated. The notices also will be available for inspection at the office of the Board of Governors. Interested persons may express their views in writing to the Reserve bank indicated for that notice or to the offices of the Board of Governors. Comments must be received not later than December 6, 2000.

A. Federal Reserve Bank of New York (Betsy Buttrill White, Senior Vice President) 33 Liberty Street, New York, New York 10045-0001:

1. Angelo DeCaro, Sands Point, New York; to acquire additional voting shares of Patriot National Bancorp, Inc., Stamford, Connecticut, and thereby indirectly acquire Patriot National Bank, Stamford, Connecticut.

B. Federal Reserve Bank of Atlanta (Cynthia C. Goodwin, Vice President) 104 Marietta Street, NW., Atlanta, Georgia 30303-2713:

1. LeVaughn Amerson and Linda Amerson, both of Plant City, Florida; to retain voting shares of Valrico Bancorp, Inc., Valrico, Florida, and thereby indirectly retain voting shares of Valrico State Bank, Valrico, Florida.

2. C. Dennis Carlton, Valrico, Florida; to retain voting shares of Valrico Bancorp, Inc., Valrico, Florida, and thereby indirectly retain voting shares of Valrico State Bank, Valrico, Florida.

3. Douglas A. Holmberg and Sherrill Holmberg, both of Valrico, Florida; to retain voting shares of Valrico Bancorp, Inc., Valrico, Florida, and thereby indirectly retain voting shares of Valrico State Bank, Valrico, Florida.

C. Federal Reserve Bank of Kansas City (D. Michael Manies, Assistant Vice President) 925 Grand Avenue, Kansas City, Missouri 64198-0001:

1. The Paul Family Limited Partnership, Bixby, Oklahoma; to acquire additional voting shares of CSB Inc., Bixby, Oklahoma, and thereby indirectly acquire additional voting shares of Citizens Security Bancshares, Inc., Bixby, Oklahoma, and Citizens Security Bank and Trust Company, Bixby, Oklahoma.

Board of Governors of the Federal Reserve System, November 16, 2000.
Robert deV. Frierson,
Associate Secretary of the Board.

[FR Doc. 00-29806 Filed 11-20-00; 8:45 am]

BILLING CODE 6210-01-M